DEPARTMENT OF TRANSPORTATION

Federal Highway Administration

Buy America Waiver Notification

AGENCY: Federal Highway Administration (FHWA), DOT.

ACTION: Notice.

SUMMARY: This notice provides information regarding the FHWA's finding that Buy America waivers are appropriate for certain steel products used in Federal-aid construction projects in New Jersey, NY, Massachusetts, and Florida.

DATES: The effective date of the waivers is January 27, 2009.

FOR FURTHER INFORMATION CONTACT: For questions about this notice, please contact Mr. Gerald Yakowenko, FHWA Office of Program Administration, (202) 366-1562, gerald.yakowenko@dot.gov. For legal questions, please contact Mr. Michael Harkins, FHWA Office of the Chief Counsel, (202) 366-4928, michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's findings that Buy America waivers are appropriate for four specific cases.

In accordance with section 130 of Division K of the “Consolidated Appropriations Act, 2008” (Pub. L. 110-161), the FHWA published on its Web site four notices of intent to issue Buy America waivers: (1) A waiver for Steel API 5L, Grade X52 PSL2 wall tubing in New Jersey http://www.fhwa.dot.gov/construction/contracts/waivers.cfm?id=25 on December 1, 2008 6, 2008; (2) a waiver for drive machinery and brakes in New York http://www.fhwa.dot.gov/construction/contracts/waivers.cfm?id=24 on December 1, 2008; (3) a waiver for four forged steel sheave hubs in Massachusetts on December 12, 2008; and (4) a waiver for machinery and motor brakes in Florida http://www.fhwa.dot.gov/construction/contracts/waivers.cfm?id=27 on December 9, 2008.

The FHWA received no comments in response to the Steel API 5L, Grade X52 PSL2 wall tubing in New Jersey and the drive machinery brakes in New York, which suggested that the Steel API 5L Grade X52 PSL2 wall tubing and machinery brakes may not be available domestically. The FHWA received one comment in response to four forged steel sheave hubs in Massachusetts, and machinery and motor brakes in Florida, respectively. The comment for the four forged steel sheave hubs in Massachusetts recommends that the certification should be reviewed prior to material purchase. Massachusetts Highway Department indicated that it has a material certification procedure for their highway construction program. The comment for the machinery and motor brakes in Florida suggested that the design needs be reconsidered to make it more attractive to domestic sources. The Florida DOT stated that alteration in the design of the motor brakes is not feasible and that the current design is in compliance with the capacity of the bridge. Further investigation and inquiry revealed that the products are not available domestically.

During the 15-day comment period, the FHWA conducted additional nationwide review to locate potential domestic manufacturers for the products. Based on all the information available to the Agency, including the responses received to the notices as well as the Agency's nationwide review, the FHWA concludes that there are no domestic manufacturers for the Steel API 5L, Grade X52 PSL2 wall tubing, drive machinery and brakes, machinery and motor brakes, and four forged steel sheave hubs.

In accordance with the provisions of section 117 of the “SAFETEA—LU Technical Corrections Act of 2008” (Pub. L. 110-244, 122 Stat. 1572), the FHWA is providing this notice as its finding that a waiver of Buy America requirements is appropriate pursuant to 23 CFR 635.410(c)(1). The FHWA invites public comment on this finding for an additional 15 days following the effective date of the finding. Comments may be submitted to the FHWA's Web site via the links above to the New Jersey, New York, Massachusetts and Florida waiver pages noted above.

(Authority: 23 U.S.C. 313; Pub. L. 110-161, 23 CFR 635.410.)

Issued on: January 15, 2009.
Thomas J. Madison, Jr.,
Federal Highway Administrator.

[FR Doc. E9-1516 Filed 1-23-09; 8:45 am]

BILLING CODE 4910-22-P